DEPARTMENT OF HOMELAND SECURITY

Coast Guard

33 CFR Part 165

[Docket No. USCG-2013-0103]

Safety Zones; Annual Events in the Captain of the Port Detroit Zone

AGENCY: Coast Guard, DHS.

ACTION: Notice of enforcement of regulation.

SUMMARY: The Coast Guard will enforce various safety zones for annual marine events in the Captain of the Port Detroit zone from May 24, 2013, through August 31, 2013. Enforcement of these zones is necessary and intended to ensure the safety of life on the navigable waters immediately prior to, during, and immediately after certain fireworks events. During the aforementioned period, the Coast Guard will enforce restrictions upon, and control movement of, vessels in a specified area immediately prior to, during, and immediately after certain fireworks events. During the enforcement period, no person or vessel may enter any safety zone without permission of the Captain of the Port.

DATES: The regulations in this notice of enforcement will be enforced at the dates and times listed below.

FOR FURTHER INFORMATION CONTACT: If you have questions on this notice, call or email LTJG Benjamin Nessia, Waterways Branch Chief, Marine Safety Unit Toledo, 420 Madison Ave., Suite 700, Toledo, Oh, 43604; telephone (419) 418-6040; email Benjamin.B.Nessia@uscg.mil.

SUPPLEMENTARY INFORMATION: The Coast Guard will enforce the safety zones listed in 33 CFR 165.941, Safety Zones; Annual Events in the Captain of the Port Detroit Zone, at the following times for the following events:

(1) Put-In-Bay Fourth of July Fireworks, Put-In-Bay, OH. The safety zone listed in 33 CFR 165.941(a)(5) will be enforced from 9:45 p.m. until 10:15 p.m. on July 4, 2013. In case of inclement weather on July 4, 2013, this safety zone will be enforced from 9:45 p.m. until 10:15 p.m. on July 5, 2013.

(2) Toledo Country Club Memorial Celebration and Fireworks, Toledo, OH. The safety zone listed in 33 CFR 165.941(a)(15) will be enforced from 9:30 p.m. until 10:30 p.m. on May 24, 2013.

(3) Luna Pier Fireworks Show, Luna Pier, MI. The safety zone listed in 33 CFR 165.941(a)(16) will be enforced from 9:30 p.m. until 10:30 p.m. on July 6, 2013.

(4) Toledo Country Club 4th of July Fireworks, Toledo, OH. The safety zone listed in 33 CFR 165.941(a)(17) will be enforced from 9:30 p.m. to 10:30 p.m. on June 28, 2013.

(5) Catawba Island Club Fireworks, Catawba Island, OH. The safety zone listed in 33 CFR 165.941(a)(21) will be enforced from 9:45 p.m. to 10:15 p.m. on July 3, 2013. In the event of inclement weather on July 3, 2013, this regulation will be enforced from 9:45 p.m. to 10:15 p.m. on July 5, 2013.

(6) Catawba Island Club Fireworks, Catawba Island, OH. The safety zone listed in 33 CFR 165.941(a)(28) will be enforced from 9:10 p.m. to 9:40 p.m. on August 31, 2013.

(7) Toledo 4th of July Fireworks, Toledo, OH. The safety zone listed in 33 CFR 165.941(a)(54) will be enforced from 9:30 p.m. to 10:00 p.m. on July 4, 2013.

(8) Bay Point Fireworks Display, Marblehead, OH. The safety zone listed in 33 CFR 165.941(a)(58) will be enforced from 10:00 p.m. to 10:20 p.m. on July 6, 2013.

(9) Lakeside July 4th Fireworks, Lakeside, OH. The safety zone listed in 33 CFR 165.941(a)(20) will be enforced from 9:45 p.m. to 10:30 p.m. on July 4, 2013.

(10) Lakeside Labor Day Fireworks, Lakeside, OH. The safety zone listed in 33 CFR 165.941(a)(27) will be enforced from 9:45 p.m. to 10:30 p.m. on August 31, 2013.

(11) Catawba Island Club Memorial Day Fireworks, Catawba Island, OH. The safety zone listed in 33 CFR 165.941 (a)(56) will be enforced from 9:45 p.m. to 10:15 p.m. on May 26, 2013.

(12) Washington Township Summerfest Fireworks, Toledo, OH. The safety zone listed in 33 CFR 165.941 (a)(2) will be enforced from 9:00 p.m. to 10:45 p.m. on June 22, 2013

Under the provisions of 33 CFR 165.23, entry into, transiting, or anchoring within these safety zones during an enforcement period is prohibited unless authorized by the Captain of the Port Detroit or his designated representative. Vessels that wish to transit through a safety zone may request permission from the Captain of the Port Detroit or his designated representative. Requests must be made in advance and approved by the Captain of Port Detroit before transits will be authorized. Approvals will be granted on a case by case basis. The Captain of the Port Detroit may be contacted via U.S. Coast Guard Sector Detroit on channel 16, VHF-FM. The Coast Guard will give notice to the public via a Broadcast to Mariners that the regulation is in effect.

This notice is issued under authority of 33 CFR 165.23 and 5 U.S.C. 552(a). If the Captain of the Port Detroit determines that the enforcement of these safety zones need not occur as stated in this notice, he or she may suspend such enforcement and notify the public of the suspension via a Broadcast Notice to Mariners.

Dated: April 12, 2013.
J.E. Ogden,
Captain, U.S. Coast Guard, Captain of the Port Detroit.

[FR Doc. 2013-10961 Filed 5-8-13; 8:45 am]

BILLING CODE 9110-04-P